DEPARTMENT OF HOMELAND SECURITY

Coast Guard

[USCG-2007-27923]

Collection of Information Under Review by Office of Management and Budget: OMB Control Numbers: 1625-0019, 1625-0062, 1625-0082, and 1625-0092

AGENCY: Coast Guard, DHS.

ACTION: Request for Comments.

SUMMARY: In compliance with the Paperwork Reduction Act of 1995, this request for comments announces that the Coast Guard is forwarding four Information Collection Requests (ICRs), abstracted below, to the Office of Information and Regulatory Affairs (OIRA) of the Office of Management and Budget (OMB) requesting an extension of their approval for the following collections of information: (1) 1625-0019, Alternative Compliance for International and Inland Navigation Rules—33 CFR Parts 81 and 89; (2) 1625-0062, Approval of Alterations to Marine Portable Tanks; Approval of Non-Specification Portable Tanks; (3) 1625-0082, Navigation Safety Information and Emergency Instructions for Certain Towing Vessels; and (4) 1625-0092, Sewage and Graywater Discharge Records for Certain Cruise Vessels Operating on Alaskan Waters. Our ICRs describe the information we seek to collect from the public. Review and comments by OIRA ensure we only impose paperwork burdens commensurate with our performance of duties.

DATES: Please submit comments on or before August 30, 2007.

ADDRESSES: To make sure your comments and related material do not enter the docket [USCG-2007-27923] or OIRA more than once, please submit them by only one of the following means:

(1)(a) By mail to the Docket Management Facility (M-30), U.S. Department of Transportation (DOT), West Building Ground Floor, Room W12-140, 1200 New Jersey Avenue, SE., Washington, DC 20590. (b) By mail to OIRA, 725 17th Street, NW., Washington, DC 20503, to the attention of the Desk Officer for the Coast Guard.

(2)(a) By delivery to room W12-140 at the address given in paragraph (1)(a) above, between 9 a.m. and 5 p.m., Monday through Friday, except Federal holidays. The telephone number is (202) 366-9329. (b) By delivery to OIRA, at the address given in paragraph (1)(b) above, to the attention of the Desk Officer for the Coast Guard.

(3) By fax to (a) the Facility at (202) 493-2298 or by contacting (b) OIRA at (202) 395-6566. To ensure your comments are received in time, mark the fax to the attention of Mr. Nathan Lesser, Desk Officer for the Coast Guard.

(4)(a) Electronically through the Web site for the Docket Management System (DMS) at http://dms.dot.gov. (b) By e-mail to: nlesser@omb.eop.gov.

The Docket Management Facility maintains the public docket for this notice. Comments and material received from the public, as well as documents mentioned in this notice as being available in the docket, will become part of this docket and will be available for inspection or copying at room W12-140 on the West Building Ground Floor, 1200 New Jersey Avenue, SE., Washington, DC, between 9 a.m. and 5 p.m., Monday through Friday, except Federal holidays. You may also find this docket on the Internet at http://dms.dot.gov.

Copies of complete ICRs are available through this docket on the Internet at http://dms.dot.gov. Additionally, copies are available from Commandant (CG-611), U.S. Coast Guard Headquarters, room 1236 (Attn: Mr. Arthur Requina), 2100 2nd Street, SW., Washington, DC 20593-0001. The telephone number is (202) 475-3523.

FOR FURTHER INFORMATION CONTACT: Mr. Arthur Requina, Office of Information Management, telephone (202) 475-3523 or fax (202) 475-3929, for questions on these documents. Contact Ms. Renee V. Wright, Program Manager, Docket Operations, (202) 366-9826, for questions on the docket.

SUPPLEMENTARY INFORMATION: The Coast Guard invites comments on the proposed collections of information to determine if collections are necessary in the proper performance of Departmental functions. In particular, the Coast Guard would appreciate comments addressing: (1) The practical utility of the collections; (2) the accuracy of the estimated burden of the collections; (3) ways to enhance the quality, utility, and clarity of information subject to the collections; and (4) ways to minimize the burden of collections on respondents, including the use of automated collection techniques or other forms of information technology.

Comments to DMS or OIRA must contain the OMB Control Number of the ICR(s) addressed. Comments to DMS must contain the docket number of this request, [USCG 2007-27923]. For your comments to OIRA to be considered, it is best if OIRA receives them on or before the August 30, 2007.

Public participation and request for comments: We encourage you to respond to this request by submitting comments and related materials. We will post all comments received, without change, to: http://dms.dot.gov. They will include any personal information you provide. We have an agreement with DOT to use their Docket Management Facility. Please see the paragraph on DOT's “Privacy Act Policy” below.

Submitting comments: If you submit a comment, please include your name and address, identify the docket number for this request for comment [USCG-2007-27923], indicate the specific section of this document or the ICR to which each comment applies, providing a reason for each comment. You may submit your comments and material by electronic means, mail, fax, or delivery to the Docket Management Facility at the address under ADDRESSES, but please submit them by only one means. If you submit them by mail or delivery, submit them in an unbound format, no larger than 8-1/2 by 11 inches, suitable for copying and electronic filing. If you submit them by mail and would like to know that they reached the Facility, please enclose a stamped, self-addressed postcard or envelope.

The Coast Guard and OIRA will consider all comments and material received during the comment period. We may change the documents supporting this collection of information or even the underlying requirements in view of them.

Viewing comments and documents: To view comments, as well as documents mentioned in this notice as being available in the docket, go to: http://dms.dot.gov at any time and conduct a simple search using the docket number. You may also visit the Docket Management Facility in room W12-140 on the West Building Ground Floor, 1200 New Jersey Avenue SE., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit: http://dms.dot.gov.

Previous Request for Comments

This request provides a 30-day comment period required by OIRA. The Coast Guard has already published the 60-day notice (72 FR 24594, May 3, 2007) required by 44 U.S.C. 3506(c)(2). That notice elicited no comments.

Information Collection Request:

1. Title: Alternative Compliance for International and Inland Navigation Rules—33 CFR parts 81 and 89.

OMB Control Number: 1625-0019.

Type of Request: Extension of a currently approved collection.

Affected Public: Vessel owners, operators, builders, and agents.

Forms: None.

Abstract: The information collected provides an opportunity for an owner, operator, builder, or agent of a unique vessel to present reasons why the vessel cannot comply with existing International/Inland Navigation Rules and how alternative compliance can be achieved. If appropriate, a Certificate of Alternative Compliance is issued.

Burden Estimate: The estimated burden has decreased from 180 hours to 122 hours a year.

2. Title: Approval of Alterations to Marine Portable Tanks; Approval of Non-Specification Portable Tanks.

OMB Control Number: 1625-0062.

Type of Request: Extension of a currently approved collection.

Affected Public: Owners of marine portable tanks and owners/designers of non-specification portable tanks.

Forms: None.

Abstract: The information will be used to evaluate the safety of proposed alterations to marine portable tanks and non-specification portable tank designs used to transfer hazardous materials during off-shore operations.

Burden Estimate: The estimated burden remains unchanged at 18 hours a year.

3. Title: Navigation Safety Information and Emergency Instructions for Certain Towing Vessels.

OMB Control Number: 1625-0082.

Type of Request: Extension of a currently approved collection.

Affected Public: Owners, operators, and masters of vessels.

Forms: None.

Abstract: Navigation safety regulations help assure the mariner piloting a towing vessel has adequate equipment, charts, maps, and other publications. For inspected towing vessels, a muster list and emergency instructions provide effective plans and references for crew to follow in an emergency situation.

Burden Estimate: The estimated burden has decreased from 367,701 hours to 362,907 hours a year.

4. Title: Sewage and Graywater Discharge Records for Certain Cruise Vessels Operating on Alaskan Waters.

OMB Control Number: 1625-0092.

Type Of Request: Extension of a currently approved collection.

Affected Public: Owners, operators, and masters of vessels.

Forms: None.

Abstract: To comply with the Consolidated Appropriations Act, 2001, Public Law 106-554, 114 Stat. 2763, 2763A-315, this information collection is needed to enforce sewage and graywater discharge requirements from certain cruise ships operating on Alaskan waters.

Burden Estimate: The estimated burden has decreased from 910 hours to 637 hours a year.

Dated: July 20, 2007.
D.T. Glenn,
Rear Admiral, U.S. Coast Guard, Assistant Commandant for Command, Control, Communications, Computers and Information Technology.

[FR Doc. E7-14696 Filed 7-30-07; 8:45 am]

BILLING CODE 4910-15-P